DEPARTMENT OF LABOR

Employment and Training Administration

[TA-W-64,883]

Celestica, Including On-Site Leased Workers From Adecco, Aerotek, Purchasing Professionals, Synico Staffing, Inc., and Ultimate Staffing, Arden Hills, MN; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on February 3, 2009, applicable to workers of Celestica, including on-site leased workers from Adecco, Aerotek and Purchasing Professionals. The notice was published in the Federal Register on March 3, 2009 (74 FR 9282).

At the request of the State agency, the Department reviewed the certification for workers of the subject firm. The workers produced printed circuit boards.

New information shows that workers leased from Synico Staffing, Inc. and Ultimate Staffing were employed on-site at the Arden Hills, Minnesota location of Celestica. The Department has determined that these workers were sufficiently under the control of the subject firm to be considered leased workers.

Based on these findings, the Department is amending this certification to include workers leased from Synico Staffing, Inc. and Ultimate Staffing working on-site at the Arden Hills, Minnesota location of Celestica.

The amended notice applicable to TA-W-64,883 is hereby issued as follows:

All workers of Celestica including on-site leased workers from Adecco, Aerotek, Purchasing Professionals, Synico Staffing, Inc., and Ultimate Staffing, Arden Hills, Minnesota, who became totally or partially separated from employment on or after January 13, 2008, through February 3, 2011, are eligible to apply for adjustment assistance under Section 223 of the Trade Act of 1974, and are also eligible to apply for alternative trade adjustment assistance under Section 246 of the Trade Act of 1974.

Signed at Washington, DC, this 2nd day of March 2011.
Michael W. Jaffe,
Certifying Officer, Office of Trade Adjustment Assistance.

[FR Doc. 2011-5650 Filed 3-11-11; 8:45 am]

BILLING CODE 4510-FN-P